DEPARTMENT OF DEFENSE

Department of the Navy

Notice of Intent To Grant Co-Exclusive License

AGENCY: Department of the Navy, DoD.

ACTION: Notice.

SUMMARY: The invention listed below is assigned to the United States Government as represented by the Secretary of the Navy. The Department of the Navy hereby gives notice of its intent to grant to Newcomer Arms, LLC and Burkart-Taylor, LLC, a revocable, nonassignable, co-exclusive license to practice in the United States, the Government-owned invention described below:

U.S. Patent Application Number 14/953,315 (Navy Case 200226): filed November 28, 2015, entitled “OPTIMIZED SUBSONIC PROJECTILES AND RELATED METHODS.”

DATES: Anyone wishing to object to the grant of this co-exclusive license must file written objections along with supporting evidence, if any, not later than December 26, 2018.

ADDRESSES: Written objections are to be filed with Naval Surface Warfare Center, Crane Div., Code OOL, Bldg. 2, 300 Highway 361, Crane, IN 47522-5001.

FOR FURTHER INFORMATION CONTACT: Mr. Christopher Monsey, Naval Surface Warfare Center, Crane Div., Code OOL, Bldg. 2, 300 Highway 361, Crane, IN 47522-5001, telephone 812-854-4100.

Authority: 35 U.S.C. 207, 37 CFR part 404.

Dated: December 3, 2018.
Meredith Steingold Werner,
Commander, Judge Advocate General's Corps, U.S. Navy, Federal Register Liaison Officer.

[FR Doc. 2018-26601 Filed 12-7-18; 8:45 am]

BILLING CODE 3810-FF-P